DEPARTMENT OF COMMERCE

International Trade Administration

[A-570-967; C-570-968]

Aluminum Extrusions From the People's Republic of China: Rescission of Antidumping and Countervailing Duty Circumvention Inquiries

AGENCY: Enforcement and Compliance, International Trade Administration, Department of Commerce.

SUMMARY: The Department of Commerce (Commerce) is rescinding the anti-circumvention inquiries on aluminum extrusions from the People's Republic of China (China) that were initiated on May 6, 2019.

DATES: Applicable March 3, 2020.

FOR FURTHER INFORMATION CONTACT: Fred Baker, Office VI, Enforcement and Compliance, International Trade Administration, U.S. Department of Commerce, 1401 Constitution Avenue NW, Washington, DC 20230; telephone: (202) 482-2924.

SUPPLEMENTARY INFORMATION:

Background

On May 26, 2011, Commerce published antidumping (AD) and countervailing duty (CVD) orders on aluminum extrusions from China.¹ On May 6, 2019, in response to a request from Air Master Awning LLC (Air Master), Commerce initiated anti-circumvention inquiries regarding the Orders with respect to aluminum window frame extrusions processed into aluminum jalousie shutters (jalousie shutters) in the Dominican Republic, and also self-initiated a scope inquiry to determine whether the jalousie shutters at issue are merchandise covered by the scope of the Orders.² On May 24, 2019, Commerce invited interested parties to submit comments on whether the jalousie shutters are merchandise covered by the scope of the Orders.³ On June 11, 2019, we received comments from Aluvinsa Industrial SRL (Aluvinsa), a Dominican producer and exporter of jalousie shutters.⁴ In June 2019, we received comments ⁵ and rebuttal comments ⁶ from Air Master. We also received letters in support of Air Master's submission from the Aluminum Extrusions Fair Trade Committee (the petitioner).⁷ On October 15, 2019, Commerce issued a final scope ruling, in which it determined that the jalousie shutters processed in the Dominican Republic from Chinese aluminum extrusions are merchandise covered by the scope of the Orders.⁸

¹ See Aluminum Extrusions from the People's Republic of China: Antidumping Duty Order, 76 FR 30650 (May 26, 2011); and Aluminum Extrusions from the People's Republic of China: Countervailing Duty Order, 76 FR 30653 (May 26, 2011) (collectively, the Orders).

² See Aluminum Extrusions from the People's Republic of China: Initiation of Anti-Circumvention and Scope Inquiries on the Antidumping Duty and Countervailing Duty Orders, 84 FR 19757 (May 6, 2019).

³ See Commerce's Letter, “Aluminum Extrusions from the People's Republic of China: Initiation of Scope Inquiries on Window Frame Extrusions,” dated May 24, 2019.

⁴ See Aluvinsa's Letter, dated June 6, 2019. Due to filing deficiencies in Aluvinsa's submission, on September 30, 2019, we requested that Aluvinsa revise and resubmit its June 6, 2019, submission, consistent with Commerce's filing requirements. Aluvinsa resubmitted its comments on October 2, 2019, but we rejected these comments from the record because they contained new factual information. On October 2, 2019, Commerce again requested that Aluvinsa submit a revised version of its June 6, 2019, submission. Aluvinsa made that submission on October 8, 2019.

⁵ See Air Master's Letter, “Aluminum Extrusions from the People's Republic of China, A-570-967 and C-570-968; Scope Inquiries on Window Frame Extrusions,” dated June 13, 2019.

⁶ See Air Master's Letter, “Aluminum Extrusions from the People's Republic of China, A-570-967 and C-570-968; Scope Inquiries on Window Frame Extrusions; Rebuttal Comments of Air master Awning LLC,” dated June 24, 2019.

⁷ See Petitioner's Letters, “Aluminum Extrusions from the People's Republic of China: Letter in Support of Air Master Awning LLC's Comments in Scope Inquiries on Window Frame Extrusions,” dated June 13, 2019, and “Aluminum Extrusions from the People's Republic of China: Letter in Support of Air Master Awning LLC's Rebuttal Comments,” dated June 24, 2019.

⁸ See Memorandum, “Final Scope Ruling on the Antidumping and Countervailing Duty Orders on Aluminum Extrusions from the People's Republic of China: Aluminum Jalousie Shutters,” dated October 15, 2019, at 20.

Rescission of Circumvention Inquiries

In its final scope ruling, Commerce indicated that it intended to rescind the anti-circumvention inquiries as moot.⁹ This determination is consistent with what Commerce has previously stated to be the purpose of an anti-circumvention inquiry. Specifically, Commerce has stated that “[t]he purpose of an anti-circumvention inquiry . . . is to determine whether a product that is outside the scope should be included within the scope because it was altered in form or appearance in minor respects.” ¹⁰ Because we have determined that aluminum jalousie shutters processed in the Dominican Republic from aluminum extrusions produced in China are merchandise covered by the scope of the Orders, we are rescinding the anti-circumvention inquiries.

⁹ Id.

¹⁰ See Certain Uncoated Paper from Australia, Brazil, the People's Republic of China, Indonesia, and Portugal: Affirmative Final Determination of Circumvention of the Antidumping and Countervailing Duty Orders, 82 FR 41610 (September 1, 2017), and accompanying Issues and Decision Memorandum at Comment 1.

Notification Regarding Administrative Protective Orders

This notice will serve as the only reminder to all parties subject to administrative protective order (APO) of their responsibility concerning the destruction of proprietary information disclosed under APO in accordance with 19 CFR 351.305(a)(3). Timely written notification of return/destruction of APO materials or conversion to judicial protective order is hereby requested. Failure to comply with the regulations and the terms of an APO is a sanctionable violation.

Notification to Interested Parties

This notice and determinations are issued and published in accordance with section 781 of the Tariff Act of 1930, as amended, and 19 CFR 351.225.

Dated: February 25, 2020.
Jeffrey I. Kessler,
Assistant Secretary for Enforcement and Compliance.

[FR Doc. 2020-04345 Filed 3-2-20; 8:45 am]

BILLING CODE 3510-DS-P